DEPARTMENT OF ENERGY

Federal Energy Regulatory Commission

Combined Notice of Filings #1

Take notice that the Commission received the following electric corporate filings:

Docket Numbers: EC14-52-000.

Applicants: Lakeswind Power Partners, LLC, Union Bank of California Leasing, Inc.

Description: Section 203 Application of Lakeswind Power Partners, LLC, et al.

Filed Date: 2/3/14.

Accession Number: 20140203-5247.

Comments Due: 5 p.m. ET 2/24/14.

Take notice that the Commission received the following electric rate filings:

Docket Numbers: ER12-309-006.

Applicants: Midcontinent Independent System Operator, Inc.

Description: 2014-02-03_Net Zero-Attachment X Compliance Filing to be effective 1/1/2012.

Filed Date: 2/3/14.

Accession Number: 20140203-5164.

Comments Due: 5 p.m. ET 2/24/14.

Docket Numbers: ER14-485-001.

Applicants: Tucson Electric Power Company.

Description: TEP Order No. 784 Correction Filing to be effective 1/27/2014.

Filed Date: 2/3/14.

Accession Number: 20140203-5166.

Comments Due: 5 p.m. ET 2/24/14.

Docket Numbers: ER14-486-001.

Applicants: UNS Electric, Inc.

Description: UNSE Order No. 784 Correction Filing to be effective 1/27/2014.

Filed Date: 2/3/14.

Accession Number: 20140203-5174.

Comments Due: 5 p.m. ET 2/24/14.

Docket Numbers: ER14-839-000.

Applicants: Frederickson Power L.P.

Description: Supplement to December 26, 2013 Frederickson Power L.P. tariff filing.

Filed Date: 1/16/14.

Accession Number: 20140116-5092.

Comments Due: 5 p.m. ET 2/6/14.

Docket Numbers: ER14-1040-000.

Applicants: Lumens Energy Supply LLC.

Description: Market-Based Rate Tariff to be effective 2/13/2014.

Filed Date: 1/17/14.

Accession Number: 20140117-5316.

Comments Due: 5 p.m. ET 2/7/14.

Docket Numbers: ER14-1175-000.

Applicants: Southwest Power Pool, Inc.

Description: 2646 Kansas Municipal Energy Agency NITSA NOA to be effective 1/1/2014.

Filed Date: 1/28/14.

Accession Number: 20140128-5248.

Comments Due: 5 p.m. ET 2/18/14.

Docket Numbers: ER14-1248-000.

Applicants: Southwestern Electric Power Company.

Description: SWEPCO-Hope PSA Amendment SPP Integrated Market to be effective 3/1/2014.

Filed Date: 2/3/14.

Accession Number: 20140203-5158.

Comments Due: 5 p.m. ET 2/24/14.

Docket Numbers: ER14-1249-000.

Applicants: Southwestern Electric Power Company.

Description: SWEPCO-Bentonville PSA Amendment SPP Integrated Market to be effective 3/1/2014.

Filed Date: 2/3/14.

Accession Number: 20140203-5159.

Comments Due: 5 p.m. ET 2/24/14.

Docket Numbers: ER14-1250-000.

Applicants: Southwestern Electric Power Company.

Description: SWEPCO-Prescott PSA Amendment SPP Integrated Market to be effective 3/1/2014.

Filed Date: 2/3/14.

Accession Number: 20140203-5162.

Comments Due: 5 p.m. ET 2/24/14.

Docket Numbers: ER14-1251-000.

Applicants: Peetz Logan Interconnect, LLC.

Description: Peetz Logan Interconnect, LLC Compliance Filing Per Order Nos. 764 and 764-A to be effective 4/4/2014.

Filed Date: 2/3/14.

Accession Number: 20140203-5175.

Comments Due: 5 p.m. ET 2/24/14.

Docket Numbers: ER14-1252-000.

Applicants: Sagebrush, a California partnership.

Description: Sagebrush, a California partnership Comp Filing Per Order Nos. 764 and 764-A to be effective 4/4/2014.

Filed Date: 2/3/14.

Accession Number: 20140203-5178.

Comments Due: 5 p.m. ET 2/24/14.

Docket Numbers: ER14-1253-000.

Applicants: Sky River LLC.

Description: Sky River LLC Compliance Filing Per Order Nos. 764 and 764-A to be effective 4/4/2014.

Filed Date: 2/3/14.

Accession Number: 20140203-5182.

Comments Due: 5 p.m. ET 2/24/14.

Docket Numbers: ER14-1254-000.

Applicants: Liberty Utilities (Granite State Electric) Corp.

Description: Notice of Succession Borderline Sales Tariff to be effective 2/4/2014.

Filed Date: 2/3/14.

Accession Number: 20140203-5204.

Comments Due: 5 p.m. ET 2/24/14.

Docket Numbers: ER14-1255-000.

Applicants: Emera Maine.

Description: Filing in Compliance with Order No. 784 to be effective 1/1/2014.

Filed Date: 2/4/14.

Accession Number: 20140204-5017.

Comments Due: 5 p.m. ET 2/25/14.

Take notice that the Commission received the following land acquisition reports:

Docket Numbers: LA13-4-000.

Applicants: Enel Green Power North America, Inc.

Description: Quarterly Land Acquisition Report of Enel Green Power North America, Inc. subsidiaries.

Filed Date: 2/4/14.

Accession Number: 20140204-5037.

Comments Due: 5 p.m. ET 2/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2014.
Nathaniel J. Davis, Sr.,
Deputy Secretary.

[FR Doc. 2014-02911 Filed 2-10-14; 8:45 am]

BILLING CODE 6717-01-P